DEPARTMENT OF ENERGY

Federal Energy Regulatory Commission

[Docket No. RP02-555-000]

Texas Eastern Transmission, LP; Notice of Tariff Filing

September 26, 2002.

Take notice that on September 24, 2002, Texas Eastern Transmission, LP (Texas Eastern) tendered for filing as part of its FERC Gas Tariff, Seventh Revised Volume No. 1, the following revised tariff sheets effective October 25, 2002:

First Revised Original Sheet No. 539

First Revised Sheet No. 540

Texas Eastern states that the purpose of this filing is to revise the capacity release provisions in section 3.14 of the General Terms and Conditions with the addition of a new Section 3.14(M) which sets forth its right to terminate temporary capacity releases by shippers who are not creditworthy or who have become non-creditworthy.

Texas Eastern states that copies of its filing have been mailed to all affected customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25024 Filed 10-1-02; 8:45 am]

BILLING CODE 6717-01-P